ELECTION ASSISTANCE COMMISSION

Sunshine Act Notice

AGENCY: U.S. Election Assistance Commission.

ACTION: Notice of public meeting & hearing agenda.

Date and Time: Tuesday, July 14, 2009, 1 p.m.-4 p.m. EDT (Meeting & Hearing).

Place: U.S. Election Assistance Commission, 1225 New York Ave., NW., Suite 150, Washington, DC 20005 (Metro Stop: Metro Center).

Agenda: The Commission will hold a public meeting to consider administrative matters. The Commission will consider re-accreditation of two voting system test laboratories. The Commission will receive a briefing on the Accessible Voting Technology Initiative. The Commission will receive a presentation from National Institute of Standards and Technology (NIST) regarding accessibility and usability of voting systems. The Commission will hear from members of the public regarding technological solutions for voting systems to ensure that voters with disabilities can vote in a private and independent manner.

Members of the public who wish to speak at the hearing, regarding technological solutions for voting systems that ensure that voters with disabilities can vote in a private and independent manner, may send a request to participate to the EAC by 5 p.m. EDT on Thursday, July 9, 2009. Due to time constraints, the EAC can select no more than 6 participants amongst the volunteers who request to participate. The selected volunteers will be allotted 5-minutes each to share their viewpoint. Participants will be selected on a first-come, first-served basis. However, to maximize diversity of input, only one participant per organization or entity will be chosen if necessary. Participants will receive confirmation by 12 p.m. EDT on Friday, July 10, 2009. Those who are not selected to speak may provide written comments. Requests to speak may be sent to the EAC via e-mail at testimony@eac.gov, via mail addressed to the U.S. Election Assistance Commission, 1225 New York Avenue, NW., Suite 1100, Washington, DC 20005, or by fax at 202-566-1389. All requests must include a description of what will be said, contact information which will be used to notify the requestor with status of request (phone number on which a message may be left or e-mail), and include the subject/attention line (or on the envelope if by mail): Technology and Disability Access. Please note that these comments will be made available to the public at http://www.eac.gov.

Written comments from members of the public, regarding technological solutions for voting systems that ensure that voters with disabilities can vote in a private and independent manner, will also be accepted. This testimony will be included as part of the written record of the hearing, and available on our Web site. Written testimony must be received by 5 p.m. EDT on Friday, July 10, 2009, and should be submitted via e-mail at testimony@eac.gov, via mail addressed to the U.S. Election Assistance Commission 1225 New York Avenue, NW., Suite 1100, Washington, DC 20005, or by fax at 202-566-1389. All correspondence that contains written testimony must have in the subject/attention line (or on the envelope if by mail): Written Submission for Technology and Disability Access.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting will be open to the public.

Person to Contact for Information: Bryan Whitener, Telephone: (202) 566-3100.

Alice Miller,
Chief Operating Officer, U.S. Election Assistance Commission.

[FR Doc. E9-15798 Filed 6-30-09; 4:15 pm]

BILLING CODE 6820-KF-P